DEPARTMENT OF TRANSPORTATION

Federal Aviation Administration

14 CFR Part 39

[Docket No. 2001-NM-171-AD; Amendment 39-12469; AD 2001-20-20]

RIN 2120-AA64

Airworthiness Directives; McDonnell Douglas Model MD-90-30 Series Airplanes

AGENCY: Federal Aviation Administration, DOT.

ACTION: Final rule; request for comments.

SUMMARY: This amendment supersedes an existing airworthiness directive (AD), applicable to certain McDonnell Douglas Model MD-90-30 series airplanes, that currently requires replacement of certain ground block screws with new screws; and retermination of the circuit ground wires of the electrical power control unit (EPCU) to separate grounding points. This amendment removes certain airplanes and adds certain other airplanes to the applicability of the existing AD. The actions specified in this AD are intended to prevent a loose electrical ground block of the circuit ground wires of the EPCU, which could result in complete loss of the primary electrical power of an airplane during flight.

DATES: Effective November 1, 2001.

The incorporation by reference of a certain publication, as listed in the regulations, is approved by the Director of the Federal Register as of November 1, 2001.

The incorporation by reference of certain other publications, as listed in the regulations, was approved previously by the Director of the Federal Register as of September 19, 2000 (65 FR 49728, August 15, 2000), and as of November 13, 2000 (65 FR 59707, October 6, 2000).

Comments for inclusion in the Rules Docket must be received on or before December 17, 2001.

ADDRESSES: Submit comments in triplicate to the Federal Aviation Administration (FAA), Transport Airplane Directorate, ANM-114, Attention: Rules Docket No. 2001-NM-171-AD, 1601 Lind Avenue, SW., Renton, Washington 98055-4056. Comments may be inspected at this location between 9:00 a.m. and 3:00 p.m., Monday through Friday, except Federal holidays. Comments may be submitted via fax to (425)-227-1232. Comments may also be sent via the Internet using the following address: 9-anm-iarcomment@faa.gov. Comments sent via fax or the Internet must contain “Docket No. 2001-NM-171-AD” in the subject line and need not be submitted in triplicate. Comments sent via the Internet as attached electronic files must be formatted in Microsoft Word 97 for Windows or ASCII text.

The service information referenced in this AD may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: George Mabuni, Aerospace Engineer, Systems and Equipment Branch, ANM-130L, FAA, Los Angeles Aircraft Certification Office, 3960 Paramount Boulevard, Lakewood, California 90712-4137; telephone (562) 627-5341; fax (562) 627-5210.

SUPPLEMENTARY INFORMATION: On September 26, 2000, the FAA issued AD 2000-20-04, amendment 39-11915 (65 FR 59707, October 6, 2000). (A correction to that AD was published in the Federal Register on January 9, 2001 (66 FR 1574)). That AD is applicable to certain McDonnell Douglas Model MD-90-30 series airplanes, to require replacement of certain ground block screws with new screws; and retermination of the circuit ground wires of the electrical power control unit (EPCU) to separate grounding points. That action was prompted by the Federal Aviation Administration's determination that the existing AD must be revised to ensure that the requirements apply to the appropriate airplane groups. The actions required by that AD are intended to prevent a loose electrical ground block of the circuit ground wires of the EPCU, which could result in complete loss of the primary electrical power of an airplane during flight.

Actions Since Issuance of Previous Rule

Since the issuance of that AD (which referenced McDonnell Douglas Service Bulletin MD90-24-062, dated February 3, 2000, and Alert Service Bulletin MD90-24-A060, Revision 01, dated September 2, 1999, as the appropriate sources of service information), the manufacturer has released McDonnell Douglas Alert Service Bulletin MD90-24-A060, Revision 02, dated February 28, 2001. Revision 02 removes six airplanes from the alert service bulletin effectivity and adds two more airplanes. Revision 02 also specifies that no additional work is required for airplanes previously modified per prior revisions of the service bulletin.

Explanation of Requirements of Rule

Since an unsafe condition has been identified that is likely to exist or develop on other airplanes of this same type design, this AD supersedes AD 2000-20-04, amendment 39-11915 (65 FR 59707, October 6, 2000). This AD requires replacement of certain ground block screws with new screws; and retermination of the circuit ground wires of the EPCU to separate grounding points. The actions are required to be accomplished in accordance with the alert service bulletin described previously.

Cost Impact

None of the new airplanes affected by this action are on the U.S. Register. The affected airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 1 work hour to accomplish the required actions at an average labor rate of $60 per work hour. Based on these figures, the cost impact of this AD would be $60 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-171-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11915 (65 FR 59707, October 6, 2000), and by adding a new airworthiness directive (AD), amendment 39-12469, to read as follows:

2001-20-20 McDonnell Douglas: Amendment 39-12469. Docket 2001-NM-171-AD. Supersedes AD 2000-20-04, Amendment 39-11915.

Applicability: Model MD-90-30 series airplanes, as listed in McDonnell Douglas Alert Service Bulletin MD90-24A060, Revision 02, dated February 28, 2001; and McDonnell Douglas Service Bulletin MD90-24-062, dated February 3, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent a loose electrical ground block of the circuit ground wires of the electrical power control unit (EPCU), which could result in complete loss of the primary electrical power of an airplane during flight., accomplish the following:

Note 2: Paragraphs (a) and (b) of this AD merely restate the requirements of paragraph (a) and (b) of AD 2000-20-04, amendment 39-11915. As allowed by the phrase, “unless accomplished previously,” if those requirements of AD 2000-20-04 have already been accomplished, this AD does not require that those actions be repeated.

Restatement of the Requirements of AD 2000-20-04

Replacement

(a) For airplanes listed in McDonnell Douglas Alert Service Bulletin MD90-24A060, Revision 01, dated September 2, 1999: Within 30 days after November 13, 2000 (the effective of AD 2000-20-04), replace the electrical ground block screws with new screws in accordance with McDonnell Douglas Alert Service Bulletin MD90-24A060, Revision 01, dated September 2, 1999.

Note 3: Accomplishment of the replacement of electrical ground block screws prior to November 13, 2000, in accordance with McDonnell Douglas Alert Service Bulletin MD90-24A060, dated July 28, 1999, is acceptable for compliance with the requirements of paragraph (a) of this AD.

Modification of the Electrical Power Control Unit

(b) For airplanes listed in McDonnell Douglas Service Bulletin MD90-24-062, dated February 3, 2000: Within 12 months after November 13, 2000 (the effective date of AD 2000-20-04), reterminate the circuit ground wires of the EPCU to separate grounding points to ensure that a single point failure does not occur, in accordance with McDonnell Douglas Service Bulletin MD90-24-062, dated February 3, 2000.

New Requirements of This Ad

Replacement

(c) For airplanes listed in McDonnell Douglas Alert Service Bulletin MD90-24A060, Revision 02, dated February 28, 2001, with the exception of those airplanes identified in paragraph (a) of this AD: Within 30 days after the effective of this AD, replace the electrical ground block screws with new screws in accordance with McDonnell Douglas Alert Service Bulletin MD90-24A060, Revision 02, dated February 28, 2001.

Alternative Methods of Compliance

(d) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with McDonnell Douglas Alert Service Bulletin MD90-24A060, Revision 01, dated September 2, 1999; McDonnell Douglas Alert Service Bulletin MD90-24A060, Revision 02, dated February 28, 2001; and McDonnell Douglas Alert Service Bulletin MD90-24-062, dated February 3, 2000; as applicable.

(1) The incorporation by reference of McDonnell Douglas Alert Service Bulletin MD90-24A060, Revision 02, dated February 28, 2001, is approved by the Director of the Federal Register in accordance with 5 U.S.C. 552(a) and 1 CFR part 51.

(2) The incorporation by reference of McDonnell Douglas Alert Service Bulletin MD90-24A060, Revision 01, dated September 2, 1999, was approved previously by the Director of the Federal Register as of September 19, 2000 (65 FR 49728, August 15, 2000).

(3) The incorporation by reference of McDonnell Douglas Alert Service Bulletin MD90-24-062, dated February 3, 2000, was approved previously by the Director of the Federal Register as of November 13, 2000 (65 FR 59707, October 6, 2000).

(4) Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles ACO, 3960 Paramount Boulevard, Lakewood, California; or at the Office of the Federal Register, 800 North Capitol Street, NW., suite 700, Washington, DC.

Effective Date

(g) This amendment becomes effective on November 1, 2001.

Issued in Renton, Washington, on October 5, 2001.
Vi L. Lipski,
Manager, Transport Airplane Directorate, Aircraft Certification Service.

[FR Doc. 01-25663 Filed 10-16-01; 8:45 am]

BILLING CODE 4910-13-U